DEPARTMENT OF TRANSPORTATION

Federal Aviation Administration

Notice of Opportunity for Public Comment on Release of Federally Obligated Property at Gwinnett County Airport, Lawrenceville, GA

AGENCY: Federal Aviation Administration (FAA), DOT.

ACTION: Notice.

SUMMARY: Under the provisions of Title 49, U.S.C. Section 47153(c), notice is being given that the FAA is considering a request from the Gwinnett County Airports Authority to waive the requirement that a 0.46-acre parcel of Federally obligated property, located at the Gwinnett County Airport, be used for aeronautical purposes.

DATES: Comments must be received on or before March 30, 2011.

ADDRESSES: Comments on this notice may be mailed or delivered in triplicate to the FAA at the following address: Atlanta Airports District Office, Attn: Lisa Favors, Program Manager, 1701 Columbia Ave., Suite 2-260, Atlanta, GA 30337-2747.

In addition, one copy of any comments submitted to the FAA must be mailed or delivered to Matthew L. Smith, Airport Director at the following address: 600 Briscoe Boulevard, Lawrenceville, GA 30046-4680.

FOR FURTHER INFORMATION CONTACT: Lisa Favors, Program Manager, Atlanta Airports District Office, 1701 Columbia Ave., Campus Bldg., Suite 2-260, College Park, GA 30337, (404) 305-7145. The application may be reviewed in person at this same location.

SUPPLEMENTARY INFORMATION: The FAA is reviewing a request by the Gwinnett County Airport Authority to release 0.46 acres of Federally obligated property at the Gwinnett County Airport. The property will be released for purchase of compatible, industrial development. The net proceeds from the sale of this property will be used for airport purposes. The proposed use of this property is compatible with airport operations.

Any person may inspect the request in person at the FAA office listed above under FOR FURTHER INFORMATION CONTACT.

In addition, any person may, upon request, inspect the request, notice and other documents germane to the request in person at the Gwinnett County Airport Authority.

Issued in Atlanta, Georgia, on February 15, 2011.
Scott L. Seritt,
Manager, Atlanta Airports District Office, Southern Region.

[FR Doc. 2011-4225 Filed 2-25-11; 8:45 am]

BILLING CODE 4910-13-M